DEPARTMENT OF COMMERCE

National Oceanic and Atmospheric Administration

RIN 0648-XW68

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held June 14-17, 2010.

ADDRESSES: The meetings will be held at the Courtyard Marriott, 1600 E. Beach Blvd, Gulfport, MS 39501.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, June 16, 2010

1:30 p.m. - The Council meeting will begin with a review of the agenda and approval of the minutes.

1:45 p.m. - 2:15 p.m. - There will be a briefing on the Deepwater Horizon Oil Spill.

2:15 p.m. - 6:30 p.m. - The Council will receive public testimony on exempted fishing permits (EFPs), if any; Final Framework Action for Greater Amberjack; Final Regulatory Amendment for Red Grouper Annual Catch Limits; and hold an open public comment period regarding any fishery issue of concern. People wishing to speak before the Council should complete a public comment card prior to the comment period.

Thursday, June 17, 2010

8:30 a.m. - 8:45 a.m. - The Council will receive a presentation titled “Fisheries 101”.

8:45 a.m. - 5 p.m. - The Council will review and discuss reports from the committee meetings as follows: Reef Fish; AP Selection; SSC Selection; SEDAR Selection; Coastal Migratory Pelagics (Mackerel); Spiny Lobster/Stone Crab; Administrative Policy; Data Collection; Habitat; and Sustainable Fisheries/Ecosystem.

5 p.m. - 5:30 p.m. - Other Business items will follow.

The Council will conclude its meeting at approximately 5:30 p.m.

Committees

Monday, June 14, 2010

9 a.m. - 9:30 a.m. - CLOSED SESSION - Full Council - The AP Selection Committee and full Council will appoint one commercial representative to the Ad Hoc Mackerel Limited Access Privilege Program Advisory Panel, the Ad Hoc Reef Fish Limited Access Privilege Program Advisory Panel, the Stone Crab Advisory Panel, two members and one alternate of SAFMC representatives on the Ad Hoc Mackerel Limited Access Privilege Program Advisory Panel.

9:30 a.m. - 9:45 a.m. - CLOSED SESSION - Full Council - The SSC Selection Committee and full council will appoint three participants to the National Scientific and Statistical Committee meeting.

9:45 a.m. - 10 a.m. - CLOSED SESSION - Full Council - The SEDAR Selection Committee and full Council will appoint participants to the SEDAR 23 Goliath Grouper Review Workshop and the SEDAR Spiny Lobster Assessment Review Workshop.

10 a.m. - 12 p.m. - The Administrative Policy Committee will discuss modifications to Statement of Organization Practice and Procedures and Handbook Development.

1:30 p.m. - 2:30 p.m. - There will be an update on the Deepwater Horizon Oil Spill in the Gulf.

2:30 p.m. - 5:30 p.m. - The Reef Fish Management Committee will receive a presentation on gag abundance and the effects of fishing on male gag population; a report from the Standing and Special Reef Fish Scientific and Statistical Committee; considerations for a request for an Interim Rule for Gag; draft framework amendment to adjust red grouper total allowable catch; a public hearing draft of Amendment 32 Gag/Red Grouper; final action framework action for greater amberjack; a reef fish permit income requirement and a crew size limit on for-hire vessels when fishing commercially.

-Recess-

Tuesday, June 15, 2010

8:30 a.m. - 12 p.m. & 1:30 p.m. - 4 p.m. - The Reef Fish Management Committee will continue to meet.

4 p.m. - 4:30 p.m. - The Data Collection Committee will receive an update from the SEFSC on the status of the implementation of electronic data reporting and develop a charge for the Vessel Monitoring System Advisory Panel.

4:30 p.m. - 5 p.m. - The Habitat Protection Committee will receive a status report on Essential Fish Habitat update.

-Recess-

Immediately Following Committee Recess - There will be an informal open public question and answer session on Gulf of Mexico Fishery Management Issues.

Wednesday, June 16, 2010

8:30 a.m. - 12 p.m. - The Sustainable Fisheries/Ecosystem Committee will discuss the Options Paper for the Generic Annual Catch Limit/Accountability Measures Amendment.

Although other non-emergency issues not on the agendas may come before the Council and Committees for discussion, in accordance with the Magnuson-Stevens Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: May 24, 2010.
Tracey L. Thompson,
Acting Director, Office of Sustainable Fisheries, National Marine Fisheries Service.

[FR Doc. 2010-12777 Filed 5-26-10; 8:45 am]

BILLING CODE 3510-22-S